DEPARTMENT OF THE TREASURY

Agency Information Collection Activities; Proposed Collection; Comment Request; Generic Clearance for Meaningful Access Information Collections

AGENCY: Bureau of Engraving and Printing, U.S. Department of the Treasury.

ACTION: Notice.

SUMMARY: The Bureau of Engraving and Printing (BEP), as part of its continuing effort to reduce paperwork and respondent burden, invites the general public and other federal agencies to comment on the proposed information collections listed below, in accordance with the Paperwork Reduction Act of 1995.

DATES: Written comments must be received on or before October 12, 2021.

ADDRESSES: Send comments regarding the burden estimate, or any other aspect of the information collection, including suggestions for reducing the burden, to Tracy Garret, Bureau of Engraving and Printing, 14th and C Streets SW, Washington, DC 20228.

FOR FURTHER INFORMATION CONTACT: Copies of the submissions may be obtained from Tracy Garrett by emailing Tracy.Garrett@bep.gov, calling (202) 874-3256, or viewing the entire information collection request at www.reginfo.gov.

SUPPLEMENTARY INFORMATION:

Title: Generic Clearance for Meaningful Access Information Collections.

OMB Control Number: 1520-0009.

Type of Review: Extension of a currently approved collection.

Description: A court order was issued in American Council of the Blind v. Paulson, 591 F. Supp. 2d 1 (D.D.C. 2008) (“ACB v. Paulson”) requiring the Department of the Treasury and BEP to “provide meaningful access to United States currency for blind and other visually impaired persons, which steps shall be completed, in connection with each denomination of currency, not later than the date when a redesign of that denomination is next approved by the Secretary of the Treasury. . . .”

In compliance with the court's order, BEP intends to meet with blind and visually impaired persons and request their feedback about tactile features that BEP is considering for possible incorporation into the next U.S. paper currency redesign. BEP employees will attend national conventions and conferences for disabled persons, as well as focus groups and other meetings. At those gatherings, BEP employees will invite blind and visually impaired persons to provide feedback about certain tactile features being considered for inclusion in future United States currency paper designs. In the past BEP contracted with specialists in the field of tactile acuity to develop a methodology for collecting the feedback. This same or substantially similar methodology will be used to continue this information collection.

Over the next three years, the BEP anticipates undertaking a variety of new information collection activities related to BEP's continued efforts to provide meaningful access to U.S. paper currency for blind and visually impaired persons. Following standard OMB requirements, for each information collection that BEP proposes to undertake under this generic clearance, the OMB will be notified at least two weeks in advance and provided with a copy of the information collection instrument along with supportive materials. The BEP will only undertake a new collection if the OMB does not object to the BEP's proposal.

Form: None.

Affected Public: Individuals and households, Businesses and other for-profits, Not-for-profit Institutions.

Estimated Number of Respondents: 650.

Frequency of Response: On Occasion.

Estimated Total Number of Annual Responses: 650.

Estimated Time per Response: 60 minutes.

Estimated Total Annual Burden Hours: 650 hours.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: August 10, 2021.
Katherine A. Allen,
BEP PRA Clearance Officer.

[FR Doc. 2021-17334 Filed 8-12-21; 8:45 am]

BILLING CODE 4840-01-P